DEPARTMENT OF JUSTICE

Antitrust Division

Notice Pursuant to the National Cooperative Research and Production Act of 1993—National Center for Manufacturing Sciences, Inc.

Notice is hereby given that, on March 21, 2000, pursuant to Section 6(a) of the National Cooperative Research and Production Act of 1993, 15 U.S.C. 4301 et seq. (“the Act”), the National Center for Manufacturing Sciences, Inc. has filed written notifications simultaneously with the Attorney General and the Federal Trade Commission disclosing changes in its membership status. The notifications were filed for the purpose of extending the Act's provisions limiting the recovery of antitrust plaintiffs to actual damages under specified circumstances. Specifically, Delphi Automotive Systems Corporation, Troy, MI; IntelliSeek, Inc., Cincinnati, OH; and Solida, Inc., Ann Arbor, MI have been approved as active members in the National Center for Manufacturing Sciences, Inc. (“NCMS”). The Minority Sub-Contractors Center, Inc., Pittsburgh, PA and Southern Technology Council, Research Triangle Park, NC have been approved for affiliate membership in the National Center for Manufacturing Sciences, Inc. (“NCMS”).

Also, Bellcore, Morristown, NJ; Cisco Systems, Inc., San Jose, CA; Control Gaging, Inc., Ann Arbor, MI; D. H. Brown Associates, Inc., Port Chester, NY; DASCOM, Inc., Santa Cruz, CA; Dresser Instrument Division, Milford, CT; Hansford Manufacturing Corporation, Rochester, NY; International Business Machines Corporation, Endicott, NY; Manufacturing Resources, Inc., Cleveland, OH; McSpadden Associates, Inc., North Billerica, MA; Micromet Instruments, Inc., Bedford, MA; Nonlinear Dynamics, Inc., Ann Arbor, MI; RoboDisk Corporation, Burbank, CA; SoftSelect Systems, LLC, Vancouver, WA; and Westinghouse Electric Corporation, Pittsburgh, PA have resigned or have been terminated from active membership in the National Center for Manufacturing Sciences, Inc. (“NCMS”). MERRA, Ann Arbor, MI; Michigan Manufacturing Technology Center, Ann Arbor, MI; National Security Agency, Fort Meade, MD; South Carolina Research Authority, Columbia, SC; U.S. General Services Administration, Washington, DC; and Vanderbilt University School of Engineering, Nashville, TN have recently resigned from affiliate membership in the National Center for Manufacturing Sciences, Inc.

Chrome Applications, Inc., Oakton, VA has changed its name to CAI Resources, Inc.

No other changes have been made in either the membership or planned activity of the group research project. Membership in this group research project remains open, and the National Center for Manufacturing Sciences, Inc. intends to file additional written notifications disclosing all changes in membership.

On February 20, 1987, the National Center for Manufacturing Sciences, Inc. filed its original notification pursuant to Section 6(a) of the Act. The Department of Justice published a notice in the Federal Register pursuant to Section 6(b) of the Act on March 17, 1987 (52 FR 8375).

The last notification was filed with the Department on August 5, 1999. A notice was published in the Federal Register pursuant to Section 6(b) of the Act on December 14, 1999 (64 FR 69800).

Constance K. Robinson,
Director of Operations, Antitrust Division.

[FR Doc. 00-20155 Filed 8-8-00; 8:45 am]

BILLING CODE 4410-11-M